DEPARTMENT OF LABOR

Employment and Training Administration

[TA-W-56,605]

Pennsylvania Veneer Corporation, Clearfield, PA; Negative Determination Regarding Application for Reconsideration

By application of April 21, 2005 a petitioner requested administrative reconsideration of the Department's negative determination regarding eligibility for workers and former workers of the subject firm to apply for Trade Adjustment Assistance (TAA) and Alternative Trade Adjustment Assistance (ATAA). The denial notice was signed on March 23, 2005 and published in the Federal Register on May 2, 2005 (70 FR 22710).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The TAA petition, filed on behalf of workers at Pennsylvania Veneer Corporation, Clearfield, Pennsylvania engaged in production of hardwood veneer was denied because the “contributed importantly” group eligibility requirement of Section 222 of the Trade Act of 1974 was not met, nor was there a shift in production from that firm to a foreign country. The “contributed importantly” test is generally demonstrated through a survey of the workers' firm's declining customers. The survey was not conducted in the initial investigation, as the preponderance of evidence indicated no declining customers during the relevant time period. The subject firm did not import hardwood veneer in the relevant period nor did it shift production to a foreign country.

In the request for reconsideration, the petitioner alleges that the subject firm lost its business due to the “indirect impact resulting from an inadequate supply of raw materials.” In particular, that the increased exportation of raw materials to offshore facilities affected the supply of raw materials to domestic businesses. The petitioner further alleges that as a result of the above conditions, workers of the subject firm have been negatively impacted by the foreign competition and should be eligible for TAA.

In order to establish import impact, the Department must consider imports that are like or directly competitive with those produced at the subject firm. Exportation of raw materials is irrelevant when determining the import impact on domestic firms. The investigation revealed that the subject firm experienced an increase in sales prior to the shutdown. Consequently, the subject firm did not have customers who decreased their purchases of hardwood veneer from the subject firm and increased imports of hardwood veneer. The investigation also revealed that worker separations were not attributed to increases in imports or a shift in production to a foreign country.

Conclusion

After review of the application and investigative findings, I conclude that there has been no error or misinterpretation of the law or of the facts which would justify reconsideration of the Department of Labor's prior decision. Accordingly, the application is denied.

Signed at Washington, DC, this 23rd day of May, 2005.
Elliott S. Kushner,
Certifying Officer, Division of Trade Adjustment Assistance.

[FR Doc. E5-2799 Filed 6-1-05; 8:45 am]

BILLING CODE 4510-30-P